GENERAL SERVICES ADMINISTRATION

Privacy Act of 1974: Revision of a System of Records Notice

AGENCY: General Services Administration

ACTION: Notice of an updated system of records subject to the Privacy Act of 1974

SUMMARY: The General Services Administration (GSA) is providing notice of a revision to the record system, Travel System (GSA/PPFM-3). The system provides control over the expenditure of funds for travel, relocation, and related expenses. The revision includes a new category of records, credit data, as required by the Consolidated Appropriations Act, 2005 (P.L. 108-447) and Office of Management and Budget guidance. The notice also updates authorities, includes minor editing for clarification purposes, and updates routine uses.

EFFECTIVE DATE: The system of records will become effective without further notice on November 17, 2005 unless comments received on or before that date result in a contrary determination.

FOR FURTHER INFORMATION CONTACT: The GSA Privacy Act Officer. Telephone: (202) 501-1452. Address: Office of the Chief People Officer (C), General Services Administration, 1800 F Street NW, Washington DC 20405.

Dated: October 7, 2005
June V. Huber,
Director, Office of Information Management.

GSA/PPFM-3

SYSTEM NAME:

Travel System, GSA/PPFM-3.

SYSTEM LOCATION:

The system of records is located in the General Services Administration (GSA) Central Office service and staff offices and administrative offices throughout GSA.

PERSONS COVERED BY THE SYSTEM:

Current and former employees of GSA and of commission, committees, and small agencies serviced by GSA, including persons other than full-time employees authorized to travel on Government business.

TYPE OF RECORD SYSTEM:

The system provides control over the expenditure of funds for travel, relocation, and related expenses. Therefore, provisions are made to authorize travel and relocation, provide and account for advances, and to pay for travel and relocation costs. The system contains records that may include, but are not limited to, name, Social Security Number, date of birth, residence address, dependent’s names and ages, duty stations, itinerary and credit data in the form of credit scores (examples of credit scores are FICO, an acronym for Fair Isaac Corporation, a Beacon score, etc.) or commercial and agency investigative reports showing debtors’ assets, liabilities, income, expenses, bankruptcy petitions, history of wage garnishments, repossessed property, tax liens, legal judgments on debts owed, and financial delinquencies.

AUTHORITY FOR MAINTAINING THE SYSTEM:

5 U.S.C. 5701-5709, 5 U.S.C. 5721-5739, and Section 639 of the Consolidated Appropriations Act, 2005 (P.L. 108-447).

PURPOSE:

To assemble in one system information supporting the day-to-day operating needs associated with managing the GSA travel and relocation programs. The system includes an automated information system and supporting documents.

ROUTINE USES OF THE RECORD SYSTEM, INCLUDING TYPES OF USERS AND THEIR PURPOSES IN USING THE SYSTEM:

System information may be accessed and used by authorized GSA employees or contractors to conduct official duties associated with the management and operation of the travel and relocation program. Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the Office of Management and Budget in connection with reviewing private relief legislation at any stage of the coordination and clearance process.

i. To banking institutions so that travelers may receive travel reimbursements by electronic funds transfer (EFT).

j. To the Department of the Treasury regarding overseas travel allowances that are excluded from taxable income, so that reports can be compiled and submitted to the Congress.

POLICIES AND PRACTICES FOR STORING, RETRIEVING, ACCESSING, RETAINING, AND DISPOSING OF RECORDS IN THE SYSTEM:

Storage: Paper records are stored in file folders, card files and cabinets; magnetic tapes and cards are stored in cabinets and storage libraries; and computer records are stored within computers and attached equipment.

RETRIEVAL:

Paper records are filed by name. Electronic records are retrievable by name, vendor number (an identifier assigned by GSA to all payees, including companies and individuals), or Social Security Number.

SAFEGUARDS:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

DISPOSAL:

The agency disposes of the records as described in the HB, GSA Records Maintenance and Disposition System (OAD P 1820.2A and CIO P 1820.1).

SYSTEM MANAGER AND ADDRESS:

Director, Financial Initiative Division (BCD), Office of Finance, Office of the Chief Financial Officer, General Services Administration, 1800 F Street NW, Washington DC, 20405.

NOTIFICATION PROCEDURE:

Employees may obtain information about whether they are a part of this system of records from the system manager at the above address.

RECORD REVIEW PROCEDURES:

Requests from individuals for access to their records should be addressed to the system manager.

PROCEDURE TO CONTEST A RECORD:

GSA rules for access to systems of records, contesting the contents of systems of records, and appealing initial determinations are published at 41 CFR Part 105-64.

RECORD SOURCES:

The sources are individuals, other employees, supervisors, other agencies, management officials, and non-Federal sources such as private firms.

[FR Doc. 05-20759 Filed 10-17-05; 8:45 am]

BILLING CODE 6820-34-S